DEPARTMENT OF EDUCATION

National Assessment Governing Board

Committee and Quarterly Board Meetings; Correction

AGENCY: National Assessment Governing Board, Department of Education.

ACTION: Notice; correction.

SUMMARY: The National Assessment Governing Board (hereafter referred to as the Board or Governing Board) published a document in the Federal Register on Thursday, February 20, 2025, announcing the schedule and proposed agenda of the Thursday, March 6, 2025, quarterly meeting of the Governing Board. The meeting agenda has been revised to reflect the below changes to the Thursday, May 6, 2025, session of the Governing Board meeting.

FOR FURTHER INFORMATION CONTACT: Angela Scott (202) 357-7502.

SUPPLEMENTARY INFORMATION:

Correction

Notice of the in-person meeting was published in the Federal Register on Thursday, February 20, 2025, in FR Doc. 2025-02864 at 90 FR 9964-9966. The meeting notice is being amended to update the summary section, including the addition of instructions for registering for the meeting, and the supplementary information to revise to reflect the new times for these meetings. On page 9964 in the 3rd column make the following correction. The meeting will be held either in person and/or virtually, as noted below. Members of the public must register in advance to attend the meeting virtually. A registration link will be posted on the Governing Board's website, www.nagb.gov, five (5) business days prior to each meeting. The Quarterly Board meeting will be held on the following dates: Originally scheduled for March 6, 2025, 7:15 a.m. to 3:25 p.m. will now be held from 8:00 a.m. to 3:00 p.m. On page 9965 in the 3rd column, the session originally scheduled for Thursday, March 6, 2025, 8:00 a.m.-3:25 p.m. (ET) (In-Person) will now be held from 8:00 a.m.-3:00 p.m. (ET) (Hybrid). There is no change to the Open Session originally scheduled from 8:00 a.m.-8:35 a.m. (ET). There is no change to the Closed Session times originally scheduled from 8:35 a.m. to 11:05 a.m. On page 9965 in the 3rd column, the welcome, review and approval of the agenda and minutes originally scheduled for Thursday, March 6, 2025, from 8:00 a.m. to 8:05 a.m. will now be held from 8:00 a.m. to 8:10 a.m. The Executive Director's update originally scheduled for 8:05 a.m. to 8:15 a.m. will now be held at 8:10 a.m. to 8:30 a.m. The NCES Commissioner's update originally scheduled from 8:15 a.m. to 8:25 a.m. is cancelled. Following a brief transitional break to closed session, the briefing and discussion on the NAEP Budget and Contracts and the discussion on the Assessment Schedule originally scheduled for 8:35 a.m. to 10:35 a.m. will now be led by NCES Acting Commissioner Chris Chapman.

On page 9966, 3rd column, the session on the AI Landscape in Large Scale Assessment originally scheduled from 1:50 p.m. to 2:45 p.m. will now be held from 2:30 p.m. to 3:00 p.m. The discussion and action on the Assessment Framework Development Policy originally scheduled from 2:45 p.m. to 3:15 p.m. will now be held from 1:50 p.m. to 2:20 p.m. The discussion and action on the 2025 slate of finalists to be submitted to the Secretary of Education for Governing Board membership terms beginning October 1, 2025, originally scheduled from 3:15 p.m. to 3:25 p.m. will now be held from 2:20 p.m. to 2:30 p.m. The Thursday, March 6, 2025, session of the meeting originally scheduled to adjourn at 3:25 p.m. will now adjourn at 3:00 p.m.

Elizabeth Schneider,
Deputy Executive Director, National Assessment Governing Board (NAGB), U.S. Department of Education.

[FR Doc. 2025-03530 Filed 3-4-25; 8:45 am]

BILLING CODE P